DEPARTMENT OF JUSTICE

Executive Office for Immigration Review

[OMB Number 1125-0006]

Agency Information Collection Activities; Proposed Collection; Comments Requested; Reinstatement, With Change, of a Currently Approved Collection

AGENCY: Executive Office for Immigration Review, Department of Justice.

ACTION: Notice.

SUMMARY: The Department of Justice, Executive Office for Immigration Review, is submitting the following information collection request to the Office of Management and Budget (OMB) for review and approval in accordance with the Paperwork Reduction Act of 1995.

DATES: The Department of Justice encourages public comment and will accept input until September 24, 2018.

FOR FURTHER INFORMATION CONTACT: If you have additional comments especially on the estimated public burden or associated response time, suggestions, or need a copy of the proposed information collection instrument with instructions or additional information, please contact Lauren Alder Reid, Chief, Immigration Law Division, Office of Policy, Executive Office for Immigration Review, 5107 Leesburg Pike, Suite 2500, Falls Church, VA 22041, telephone: (703) 305-0289.

SUPPLEMENTARY INFORMATION: Written comments and suggestions from the public and affected agencies concerning the proposed collection of information are encouraged. Your comments should address one or more of the following four points:

—Evaluate whether the proposed collection of information is necessary for the proper performance of the functions of the Executive Office for Immigration Review, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of information collection: Reinstatement, with change, of a currently approved collection.

2. The title of the form/collection: Notice of Entry of Appearance as Attorney or Representative Before the Immigration Court.

3. The agency form number, if any, and the applicable component of the Department sponsoring the collection: Form EOIR-28. The applicable component within the Department of Justice is the Executive Office for Immigration Review.

4. Affected public who will be asked or required to respond, as well as a brief abstract: Primary: Attorneys and qualified representatives notifying the Immigration Court that they are representing an alien in immigration proceedings. Other: None. Abstract: This information collection is necessary to allow an attorney or representative to notify the Immigration Court that he or she is representing an alien before the Immigration Court.

5. An estimate of the total number of respondents and the amount of time estimated for an average respondent to respond: It is estimated that 454,449 respondents will complete the form annually; each response will be completed in approximately 6 minutes.

6. An estimate of the total public burden (in hours) associated with the collection: 45,445 hours.

If additional information is required contact: Melody Braswell, Department Clearance Officer, United States Department of Justice, Justice Management Division, Policy and Planning Staff, Two Constitution Square, 145 N Street NE, 3E.405A, Washington, DC 20530.

Dated: July 20, 2018.
Melody Braswell,
Department Clearance Officer for PRA, U.S. Department of Justice.

[FR Doc. 2018-15935 Filed 7-25-18; 8:45 am]

BILLING CODE 4410-30-P